DEPARTMENT OF COMMERCE

International Trade Administration

[A-570-890]

Wooden Bedroom Furniture From the People's Republic of China: Final Results of Expedited Sunset Review of Antidumping Duty Order

AGENCY: Import Administration, International Trade Administration, Department of Commerce.

DATES: Effective Date: April 14, 2010.

SUMMARY: On December 1, 2009, the Department of Commerce (“Department”) initiated a sunset review of the antidumping duty order on wooden bedroom furniture from the People's Republic of China (“PRC”). On the basis of a notice of intent to participate and an adequate substantive response from domestic interested parties, as well as a lack of response from respondent interested parties, the Department conducted an expedited (120-day) sunset review. As a result of the sunset review, the Department finds that revocation of the antidumping duty order would be likely to lead to continuation or recurrence of dumping. The dumping margins likely to prevail if the order were revoked are included in the Final Results of Review section of this notice.

FOR FURTHER INFORMATION CONTACT: Rebecca Pandolph or Howard Smith, AD/CVD Operations, Office 4, Import Administration, International Trade Administration, U.S. Department of Commerce, 14th Street and Constitution Avenue, NW., Washington, DC 20230; Telephone: (202) 482-3627 or (202) 482-5193, respectively.

SUPPLEMENTARY INFORMATION:

Background

On December 1, 2009, the Department published the notice of initiation of the sunset review of the antidumping duty order on wooden bedroom furniture from the PRC pursuant to section 751(c) of the Tariff Act of 1930, as amended (“the Act”). See Initiation of Five-Year (“Sunset”) Review, 74 FR 62748 (December 1, 2009). On December 11, 2009, the Department received a notice of intent to participate from American Furniture Manufacturers Committee for Legal Trade (the “AFM Committee”); Vaughan-Bassett Furniture Company, Inc. (“Vaughan-Bassett”); Dubois Woods Products Inc. (“Dubois”); The Jasper Group d/b/a Klem Hospitality (“Klem”); Solid Comfort, Inc. (“Solid Comfort”); Cabinet Makers, Millmen and Industrial Carpenters Local 721 (“Local 721”); UBC Southern Council of Industrial Workers Local 2305 (“Local 2305”); and Teamsters, Chauffeurs, Warehousemen and Helpers Local 991 (“Local 991”) within the deadline specified in section 351.218(d)(1)(i) of the Department's regulations. The AFM Committee, which includes Vaughan-Bassett, claimed interested party status under section 771(9)(E) of the Act as a trade or business association a majority of whose members manufacture, produce or wholesale a domestic like product. Dubois, Klem and Solid Comfort claimed interested party status under section 771(9)(C) of the Act as producers of the domestic like product. Local 721, Local 2305, and Local 991 claimed interested party status under section 771(9)(D) of the Act as a certified union or recognized union or group of workers which is representative of an industry engaged in the manufacture, production, or wholesale in the United States of a domestic like product.

On December 30, 2009, the Department received a substantive response from the AFM Committee, Vaughan-Bassett, Dubois, Klem, Solid Comfort, Local 721, Local 2305, and Local 991 within the deadline specified in section 351.218(d)(3)(i) of the Department's regulations. The Department did not receive a response from any respondent interested party to this proceeding. As a result, pursuant to section 751(c)(3)(B) of the Act and section 351.218(e)(1)(ii)(C)(2) of the Department's regulations, the Department determined to conduct an expedited review of the order.

Scope of the Order

The product covered by the order is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,¹ highboys,² lowboys,³ chests of drawers,⁴ chests,⁵ door chests,⁶ chiffoniers,⁷ hutches,⁸ and armoires; ⁹ (6) desks, computer stands, filing cabinets, book cases, or writing tables that are attached to or incorporated in the subject merchandise; and (7) other bedroom furniture consistent with the above list.

¹ A chest-on-chest is typically a tall chest-of-drawers in two or more sections (or appearing to be in two or more sections), with one or two sections mounted (or appearing to be mounted) on a slightly larger chest; also known as a tallboy.

² A highboy is typically a tall chest of drawers usually composed of a base and a top section with drawers, and supported on four legs or a small chest (often 15 inches or more in height).

³ A lowboy is typically a short chest of drawers, not more than four feet high, normally set on short legs.

⁴ A chest of drawers is typically a case containing drawers for storing clothing.

⁵ A chest is typically a case piece taller than it is wide featuring a series of drawers and with or without one or more doors for storing clothing. The piece can either include drawers or be designed as a large box incorporating a lid.

⁶ A door chest is typically a chest with hinged doors to store clothing, whether or not containing drawers. The piece may also include shelves for televisions and other entertainment electronics.

⁷ A chiffonier is typically a tall and narrow chest of drawers normally used for storing undergarments and lingerie, often with mirror(s) attached.

⁸ A hutch is typically an open case of furniture with shelves that typically sits on another piece of furniture and provides storage for clothes.

⁹ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ¹⁰ (9) jewelry armories; ¹¹ (10) cheval mirrors; ¹² (11) certain metal parts; ¹³ (12) mirrors that do not attach to, incorporate in, sit on, or hang over a dresser if they are not designed and marketed to be sold in conjunction with a dresser as part of a dresser-mirror set; (13) upholstered beds ¹⁴ and (14) toy boxes.¹⁵

¹⁰ As used herein, bentwood means solid wood made pliable. Bentwood is wood that is brought to a curved shape by bending it while made pliable with moist heat or other agency and then set by cooling or drying. See Customs' Headquarters' Ruling Letter 043859, dated May 17, 1976.

¹¹ Any armoire, cabinet or other accent item for the purpose of storing jewelry, not to exceed 24 in width, 18 in depth, and 49 in height, including a minimum of 5 lined drawers lined with felt or felt-like material, at least one side door (whether or not the door is lined with felt or felt-like material), with necklace hangers, and a flip-top lid with inset mirror. See Issues and Decision Memorandum from Laurel LaCivita to Laurie Parkhill, Office Director, Concerning Jewelry Armoires and Cheval Mirrors in the Antidumping Duty Investigation of Wooden Bedroom Furniture from the People's Republic of China, dated August 31, 2004. See also Wooden Bedroom Furniture From the People's Republic of China: Final Changed Circumstances Review, and Determination To Revoke Order in Part, 71 FR 38621 (July 7, 2006).

¹² Cheval mirrors are any framed, tiltable mirror with a height in excess of 50 inches that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet line with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Changed Circumstances Review and Determination To Revoke Order in Part, 72 FR 948 (January 9, 2007).

¹³ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under the Harmonized Tariff Schedule of the United States (“HTSUS”) subheading 9403.90.7000.

¹⁴ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

¹⁵ To be excluded the toy box must: (1) Be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (“ASTM”) standard F963-03. Toy boxes are boxes generally designed for the purpose of storing children's items such as toys, books, and playthings. See Wooden Bedroom Furniture from the People's Republic of China: Final Results of Changed Circumstances Review and Determination to Revoke Order in Part, 74 FR 8506 (February 25, 2009). Further, as determined in the scope ruling memorandum “Wooden Bedroom Furniture from the People's Republic of China: Scope Ruling on a White Toy Box,” dated July 6, 2009, the dimensional ranges used to identify the toy boxes that are excluded from the wooden bedroom furniture order apply to the box itself rather than the lid.

Imports of subject merchandise are classified under subheading 9403.50.9040 of the HTSUS as “wooden * * * beds” and under subheading 9403.50.9080 of the HTSUS as “other * * * wooden furniture of a kind used in the bedroom.” In addition, wooden headboards for beds, wooden footboards for beds, wooden side rails for beds, and wooden canopies for beds may also be entered under subheading 9403.50.9040 of the HTSUS as “parts of wood” and framed glass mirrors may also be entered under subheading 7009.92.5000 of the HTSUS as “glass mirrors * * * framed.” This order covers all wooden bedroom furniture meeting the above description, regardless of tariff classification. Although the HTSUS subheadings are provided for convenience and customs purposes, our written description of the scope of this proceeding is dispositive.

Analysis of Comments Received

All issues raised in this review are addressed in the “Issues and Decision Memorandum” (“Decision Memorandum”) from John M. Andersen, Acting Deputy Assistant Secretary for Antidumping and Countervailing Duty Operations, to Ronald K. Lorentzen, Deputy Assistant Secretary for Import Administration, which is dated concurrently with this notice, and hereby adopted by this notice. The issues discussed in the Decision Memorandum include the likelihood of continuation or recurrence of dumping and the magnitude of the margins likely to prevail if the order were revoked. Parties can find a complete discussion of all issues raised in this review and the corresponding recommendations in this public memorandum, which is on file in the Central Records Unit in room 1117 of the main Commerce building.

In addition, a complete version of the Decision Memorandum can be accessed directly on the web at http://ia.ita.doc.gov/frn. The paper copy and electronic version of the Decision Memorandum are identical in content.

Final Results of Review

Pursuant to section 752(c) of the Act, we determine that revocation of the antidumping duty order on wooden bedroom furniture from the PRC would be likely to lead to continuation or recurrence of dumping at the following weighted-average percentage margins:

Exporter/manufacturer | Margin (percent)
Dongguan Lung Dong Furniture Co., Ltd., or Dongguan Dong He Furniture Co., Ltd. | 2.32
Rui Feng Woodwork Co., Ltd., or Rui Feng Lumber Development Co., Ltd. or Dorbest Limited | 7.87
Lacquer Craft Mfg. Co., Ltd | (¹)
Markor International Furniture (Tianjin) Manufacturing Company, Ltd. | 0.83
Shing Mark Enterprise Co., Ltd., or Carven Industries Limited (BVI), or Carven I Industries Limited (HK), or Dongguan Zhenxin Furniture Co., Ltd., or Dongguan Yongpeng Furniture Co., Ltd | 4.96
Starcorp Furniture (Shanghai) Co., Ltd., or Orin Furniture (Shanghai) Co., Ltd., or Shanghai Starcorp Furniture Co., Ltd | 15.78
Alexandre International Corp., or Southern Art Development Ltd., or Alexandre Furniture (Shenzhen) Co., Ltd., or Southern Art Furniture Factory | 7.24
Art Heritage International, Ltd., or Super Art Furniture Co., Ltd., or Artwork Metal & Plastic Co., Ltd., or Jibson Industries Ltd., or Always Loyal International | 7.24
Billy Wood Industrial (Dong Guan) Co., Ltd., or Great Union Industrial (Dongguan) Co., Ltd., or Time Faith Ltd | 7.24
Changshu HTC Import & Export Co., Ltd | 7.24
Cheng Meng Furniture (PTE) Ltd., or China Cheng Meng Decoration & Furniture (Suzhou) Co., Ltd | 7.24
Chuan Fa Furniture Factory | 7.24
Classic Furniture Global Co., Ltd | 7.24
Clearwise Co., Ltd | 7.24
COE Ltd | 7.24
Dalian Guangming Furniture Co., Ltd | 7.24
Dalian Huafeng Furniture Co., Ltd | 7.24
Decca Furniture Limited | 7.24
Dongguan Cambridge Furniture Co., or Glory Oceanic Co., Ltd | 7.24
Dongguan Chunsan Wood Products Co., Ltd., or Trendex Industries Ltd | 7.24
Dongguan Creation Furniture Co., Ltd., or Creation Industries Co., Ltd | 7.24
Dongguan Grand Style Furniture, or Hong Kong Da Zhi Furniture Co., Ltd | 7.24
Dongguan Great Reputation Furniture Co., Ltd | 7.24
Dongguan Hero Way Woodwork Co., Ltd., or Dongguan Da Zhong Woodwork Co., Ltd., or Hero Way Enterprises Ltd., or Well Earth International Ltd. | 7.24
Dongguan Hung Sheng Artware Products Co., Ltd., or Coronal Enterprise Co., Ltd. | 7.24
Dongguan Kin Feng Furniture Co., Ltd | 7.24
Dongguan Kingstone Furniture Co., Ltd., or Kingstone Furniture Co., Ltd | 7.24
Dongguan Liaobushangdun Huada Furniture Factory, or Great Rich (HK) Enterprise Co. Ltd | 7.24
Dongguan Qingxi Xinyi Craft Furniture Factory (Joyce Art Factory) | 7.24
Dongguan Singways Furniture Co., Ltd | 7.24
Dongguan Sunrise Furniture Co., or Taicang Sunrise Wood Industry Co., Ltd., or Shanghai Sunrise Furniture Co., Ltd., or Fairmont Designs | 7.24
Dongying Huanghekou Furniture Industry Co., Ltd | 7.24
Dream Rooms Furniture (Shanghai) Co., Ltd | 7.24
Eurosa (Kunshan) Co., Ltd., or Eurosa Furniture Co., (PTE) Ltd | 7.24
Ever Spring Furniture Co. Ltd., or S.Y.C. Family Enterprise Co., Ltd | 7.24
Fine Furniture (Shanghai) Ltd | 7.24
Foshan Guanqiu Furniture Co., Ltd | 7.24
Fujian Lianfu Forestry Co., Ltd., or Fujian Wonder Pacific Inc | 7.24
Gaomi Yatai Wooden Ware Co., Ltd., or Team Prospect International Ltd., or Money Gain International Co | 7.24
Garri Furniture (Dong Guan) Co., Ltd., or Molabile International, Inc., or Weei Geo Enterprise Co., Ltd | 7.24
Green River Wood (Dongguan) Ltd | 7.24
Guangming Group Wumahe Furniture Co., Ltd | 7.24
Guangzhou Maria Yee Furnishings Ltd., Pyla HK, Ltd., and Maria Yee, Inc | 7.24
Hainan Jong Bao Lumber Co., Ltd., or Jibbon Enterprise Co., Ltd | 7.24
Hamilton & Spill Ltd | 7.24
Hang Hai Woodcraft's Art Factory | 7.24
Hualing Furniture (China) Co., Ltd., or Tony House Manufacture (China) Co., Ltd., or Buysell Investments Ltd., or Tony House Industries Co., Ltd | 7.24
Jardine Enterprise, Ltd | 7.24
Jiangmen Kinwai Furniture Decoration Co., Ltd | 7.24
Jiangmen Kinwai International Furniture Co., Ltd | 7.24
Jiangsu Weifu Group Fullhouse Furniture Manufacturing. Corp. | 7.24
Jiangsu Yuexing Furniture Group Co., Ltd | 7.24
Jiedong Lehouse Furniture Co., Ltd | 7.24
King's Way Furniture Industries Co., Ltd., or Kingsyear Ltd | 7.24
Kuan Lin Furniture (Dong Guan) Co., Ltd., or Kuan Lin Furniture Factory, or Kuan Lin Furniture Co., Ltd | 7.24
Kunshan Lee Wood Product Co., Ltd | 7.24
Kunshan Summit Furniture Co., Ltd | 7.24
Langfang Tiancheng Furniture Co., Ltd | 7.24
Leefu Wood (Dongguan) Co., Ltd., or King Rich International, Ltd | 7.24
Link Silver Ltd. (V.I.B.), or Forward Win Enterprises Co. Ltd., or Dongguan Haoshun Furniture Ltd | 7.24
Locke Furniture Factory, or Kai Chan Furniture Co., Ltd., or Kai Chan (Hong Kong) Enterprise Ltd., or Taiwan Kai Chan Co., Ltd | 7.24
Longrange Furniture Co., Ltd | 7.24
Nanhai Baiyi Woodwork Co., Ltd | 7.24
Nanhai Jiantai Woodwork Co., Ltd., or Fortune Glory Industrial Ltd. (H.K. Ltd) | 7.24
Nantong Dongfang Orient Furniture Co., Ltd | 7.24
Nantong Yushi Furniture Co., Ltd | 7.24
Nathan International Ltd., or Nathan Rattan Factory | 7.24
Orient International Holding Shanghai Foreign Trade Co., Ltd | 7.24
Passwell Corporation, or Pleasant Wave Ltd | 7.24
Perfect Line Furniture Co., Ltd | 7.24
Prime Wood International Co., Ltd., or Prime Best International Co., Ltd., or Prime Best Factory, or Liang Huang (Jiaxing) Enterprise Co., Ltd | 7.24
PuTian JingGong Furniture Co., Ltd | 7.24
Qingdao Liangmu Co., Ltd | 7.24
Restonic (Dongguan) Furniture Ltd., or Restonic Far East (Samoa) Ltd | 7.24
RiZhao SanMu Woodworking Co., Ltd | 7.24
Season Furniture Manufacturing Co., or Season Industrial Development Co | 7.24
Sen Yeong International Co., Ltd., or Sheh Hau International Trading Ltd | 7.24
Shanghai Jian Pu Export & Import Co., Ltd | 7.24
Shanghai Maoji Imp and Exp Co., Ltd | 7.24
Sheng Jing Wood Products (Beijing) Co., Ltd., or Telstar Enterprises Ltd | 7.24
Shenyang Shining Dongxing Furniture Co., Ltd | 7.24
Shenzhen Forest Furniture Co., Ltd | 7.24
Shenzhen Jiafa High Grade Furniture Co., Ltd., or Golden Lion International Trading Ltd | 7.24
Shenzhen New Fudu Furniture Co., Ltd | 7.24
Shenzhen Wonderful Furniture Co., Ltd | 7.24
Shenzhen Xiande Furniture Factory | 7.24
Shenzhen Xingli Furniture Co., Ltd | 7.24
Shun Feng Furniture Co., Ltd | 7.24
Songgang Jasonwood Furniture Factory, or Jasonwood Industrial Co., Ltd. S.A. | 7.24
Starwood Furniture Manufacturing Co. Ltd | 7.24
Starwood Industries Ltd | 7.24
Strongson Furniture (Shenzhen) Co., Ltd., or Strongson Furniture Co., Ltd., or Strongson (HK) Co | 7.24
Sunforce Furniture (Hui-Yang) Co., Ltd., or Sun Fung Wooden Factory, or Sun Fung Co., or Shin Feng Furniture Co., Ltd., or Stupendous International Co., Ltd | 7.24
Superwood Co., Ltd., or Lianjiang Zongyu Art Products Co., Ltd | 7.24
Tarzan Furniture Industries Ltd., or Samso Industries Ltd | 7.24
Teamway Furniture (Dong Guan) Ltd., or Brittomart Inc | 7.24
Techniwood Industries Ltd., or Ningbo Furniture Industries Limited, or Ningbo Hengrun Furniture Co., Ltd | 7.24
Tianjin Fortune Furniture Co., Ltd | 7.24
Tianjin Master Home Furniture | 7.24
Tianjin Phu Shing Woodwork Enterprise Co., Ltd | 7.24
Tianjin Sande Fairwood Furniture Co., Ltd | 7.24
Tube-Smith Enterprise (ZhangZhou) Co., Ltd., or Tube-Smith Enterprise (Haimen) Co., Ltd., or Billonworth Enterprises Ltd | 7.24
Union Friend International Trade Co., Ltd | 7.24
U-Rich Furniture (Zhangzhou) Co., Ltd., or U-Rich Furniture Ltd | 7.24
Wanhengtong Nueevder (Furniture) Manufacture Co., Ltd., or Dongguan Wanengtong Industry Co., Ltd | 7.24
Woodworth Wooden Industries (Dong Guan) Co., Ltd | 7.24
Xiamen Yongquan Sci-Tech Development Co., Ltd | 7.24
Jiangsu XiangSheng Bedtime Furniture Co., Ltd | 7.24
Xingli Arts & Crafts Factory of Yangchun | 7.24
Yangchun Hengli Co. Ltd | 7.24
Yeh Brothers World Trade, Inc | 7.24
Yichun Guangming Furniture Co., Ltd | 7.24
Yida Co., Ltd., or Yitai Worldwide, Ltd., or Yili Co., Ltd., or Yetbuild Co., Ltd | 7.24
Yihua Timber Industry Co., Ltd | 7.24
Zhang Zhou Sanlong Wood Product Co., Ltd | 7.24
Zhangjiagang Zheng Yan Decoration Co., Ltd | 7.24
Zhangjiagang Daye Hotel Furniture Co., Ltd | 7.24
Zhangzhou Guohui Industrial & Trade Co. Ltd | 7.24
Zhanjiang Sunwin Arts & Crafts Co., Ltd | 7.24
Zhong Shan Fullwin Furniture Co., Ltd | 7.24
Zhongshan Fookyik Furniture Co., Ltd | 7.24
Zhongshan Golden King Furniture Industrial Co., Ltd | 7.24
Zhoushan For-Strong Wood Co., Ltd | 7.24
PRC-Wide Rate | 198.08
¹ Excluded.

This notice also serves as the only reminder to parties subject to administrative protective orders (“APO”) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing the results and notice in accordance with sections 751(c), 752(c), and 777(i)(1) of the Act.

Dated: April 7, 2010.
Ronald K. Lorentzen,
Deputy Assistant Secretary for Import Administration.

[FR Doc. 2010-8565 Filed 4-13-10; 8:45 am]

BILLING CODE 3510-DS-P